DEPARTMENT OF COMMERCE

International Trade Administration

[A-570-601]

Tapered Roller Bearings and Parts Thereof, Finished and Unfinished From the People's Republic of China: Extension of the Time Limit for the Preliminary Results of Antidumping Duty New Shipper Review

AGENCY: Import Administration, International Trade Administration, Department of Commerce.

DATES: Effective Date: January 13, 2012.

FOR FURTHER INFORMATION CONTACT: Jeffrey Pedersen or Lori Apodaca, AD/CVD Operations, Office 4, Import Administration, International Trade Administration, U.S. Department of Commerce, 14th Street and Constitution Avenue NW., Washington, DC 20230; telephone: (202) 482-2769 or (202) 482-4551, respectively.

SUPPLEMENTARY INFORMATION:

Background

On August 1, 2011, the Department of Commerce (“Department”) published a notice of initiation of the new shipper review of the antidumping duty order on tapered roller bearings and parts thereof, finished and unfinished from the People's Republic of China. See Tapered Roller Bearings and Parts Thereof, Finished and Unfinished From the People's Republic of China: Initiation of Antidumping Duty New Shipper Review, 76 FR 45777 (August 1, 2011). The period of the review is June 1, 2010, through May 31, 2011. The preliminary results of the new shipper review are currently due no later than January 23, 2012.

Extension of Time Limits for Preliminary Results

Section 751(a)(2)(B)(iv) of the Tariff Act of 1930, as amended (“Act”), and 19 CFR 351.214(i)(1) require the Department to issue the preliminary results in a new shipper review of an antidumping duty order 180 days after the date on which the review is initiated. The Department may, however, extend the deadline for completion of the preliminary results of a new shipper review to 300 days if it determines that the case is extraordinarily complicated. See section 751(a)(2)(B)(iv) of the Act and 19 CFR 351.214(i)(2).

The Department finds that this new shipper review is extraordinarily complicated and, therefore, it requires additional time to complete the preliminary results. Specifically, the Department requires additional time to examine factors of production data that were only fully provided this month and then issue supplemental questionnaires for any additional information that may be needed. Accordingly, we are extending the time for the completion of the preliminary results of this review by 120 days, until May 22, 2012.

This notice is published in accordance with sections 751(a)(2)(B)(iv) and 777(i)(1) of the Act.

Dated: January 5, 2012.
Christian Marsh,
Deputy Assistant Secretary for Antidumping and Countervailing Duty Operations.

[FR Doc. 2012-585 Filed 1-12-12; 8:45 am]

BILLING CODE 3510-DS-P